DEPARTMENT OF COMMERCE

National Oceanic and Atmospheric Administration

50 CFR Part 635

[I.D. 112202D]

Atlantic Highly Migratory Species Fisheries; Atlantic Bluefin Tuna

AGENCY: National Marine Fisheries Service (NMFS), National Oceanic and Atmospheric Administration (NOAA), Commerce.

ACTION: Quota transfers; fishery reopening.

SUMMARY: NMFS adjusts the October-December subquota for the coastwide General category Atlantic bluefin tuna (BFT) fishery by transferring 10.0 metric tons (mt) from the Longline North subcategory quota, 15.0 mt from the Angling category (10.0 mt from the school size class North and 5.0 mt from the school size class South subcategories), 15.0 mt from the Harpoon category, 65.0 mt from the Reserve category, and 10.0 mt from the General category New York Bight set-aside for a revised coastwide General category subquota of approximately 386.7 mt for October-December. NMFS reopens the coastwide BFT General category until the adjusted October-December subquota has been filled. These actions are being taken to allow for maximum utilization of the U.S. BFT landings quota while maintaining a fair distribution of fishing opportunities, preventing overharvest of the adjusted subquotas for the affected fishing categories, helping to achieve optimum yield in the General category fishery, and allowing the collection of a broad range of data for stock monitoring purposes, consistent with the objectives of the Fishery Management Plan for Atlantic Tunas, Swordfish, and Sharks (HMS FMP).

DATES: The quota transfers are effective November 26, 2002, through May 31, 2003. The coastwide General category reopening is effective December 1 through December 31, 2002 or until the subquota has been reached.

FOR FURTHER INFORMATION CONTACT: Brad McHale or Dianne Stephan, 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories.

Quota Transfers

Under the implementing regulations at 50 CFR 635.27(a)(8), NMFS has the authority to transfer quotas among categories, or, as appropriate, subcategories, of the fishery, after considering the following factors: (1) The usefulness of information obtained from catches in the particular category for biological sampling and monitoring of the status of the stock; (2) the catches of the particular category quota to date and the likelihood of closure of that segment of the fishery if no allocation is made; (3) the projected ability of the vessels fishing under the particular category quota to harvest the additional amount of BFT before the end of the fishing year; (4) the estimated amounts by which quotas established for other gear segments of the fishery might be exceeded; (5) the effects of the transfer on BFT rebuilding and overfishing; and (6) the effects of the transfer on accomplishing the objectives of the HMS FMP.

If it is determined, based on the factors listed here and the probability of exceeding the total quota, that vessels fishing under any category or subcategory quota are not likely to take that quota, NMFS may transfer inseason any portion of the remaining quota of that fishing category to any other fishing category or to the Reserve quota.

Quota Adjustments

Annual BFT quota specifications issued under § 635.27 provide for a quota of 647.0 mt of large medium and giant BFT to be harvested from the regulatory area by vessels fishing under the General category quota during the 2002 fishing year. The General category BFT quota is further subdivided into time period subquotas to provide for broad temporal and geographic distribution of scientific data collection and fishing opportunities. The October-December subquota was initially set at 63.7 mt for the 2002 fishing year, and is currently 271.7 mt, after the addition of approximately 78.0 mt of unharvested subquota from previous periods and a previous quota transfer of 130 mt (67 FR 63854, October 16, 2002). As of November 13, 2002, BFT landings against the adjusted October-December General category subquota have totaled approximately 326.8 mt, exceeding the available coastwide quota by 55.1 mt. An additional 10 mt has been set aside for the traditional fall New York Bight fishery.

After considering the factors for making transfers between categories, NMFS has determined that 10 mt of the remaining adjusted Longline North subcategory quota of approximately 13.3 mt should be transferred to the coastwide General category quota. NMFS has also determined that 15 mt of the remaining Angling school subcategory quota of approximately 195.6 mt (10 mt of the remaining Angling school north subcategory quota of approximately 94.1 mt, and 5 mt of the remaining Angling school south subcategory quota of approximately 57.4 mt), 15 mt of the remaining Harpoon category quota of approximately 36.2 mt, and 65 mt of the remaining Reserve category quota should be transferred to the coastwide General category. Finally, NMFS has determined to transfer the remaining General category New York Bight set-aside subquota of approximately10 mt into the coastwide General category quota. The adjusted subquota for the coastwide General category fishery for the October-December period is 386.7 mt. Landings of large medium or giant BFT in the General category New York Bight set-aside area have been minimal this year and the transfer of the 10 mt set-aside should not adversely impact General category participants in this set-aside area. Vessels participating in General category New York Bight fishery may continue to land and sell large medium or giant BFT against the adjusted coastwide General category quota.

Once the adjusted General category subquota for the October-December period has been attained, the coastwide fishery will be closed. Announcement of the closure will be filed with the Office of the Federal Register, stating the effective date of closure, and further communicated through the HMS Fax Network, the Atlantic Tunas Information Lines, HMS websites, NOAA weather radio, and Coast Guard Notice to Mariners. Although notification of closure will be provided as far in advance as possible, fishermen are encouraged to call the Atlantic Tunas Information Line at (888) USA-TUNA or (978) 281-9305 or access www.nmfspermits.com, to check the status of the fishery before leaving for a fishing trip.

Classification

The Assistant Administrator for Fisheries, NOAA (AA), finds for good cause that providing prior notice and public comment, as required under 5 U.S.C. 553 (b)(B), is impracticable and contrary to the public interest. Without immediate effectiveness of these inseason adjustments, NMFS would not be providing U.S. fishermen with a reasonable opportunity to catch the quota that ICCAT allocated to the United States. For this reason, and because the action relieves a restriction in reopening the fishery, the AA also finds good cause to waive the 30-day delay in effective date pursuant to 5 U.S.C. 553 (d)(1) and (3). This action is undertaken pursuant to 50 CFR 635.27 and is exempt for review under Executive Order 12866.

Authority: 16 U.S.C. 971 et seq. and 1801 et seq.

Dated: November 25, 2002.
John H. Dunnigan,
Director, Office of Sustainable Fisheries, National Marine Fisheries Service.

[FR Doc. 02-30451 Filed 11-26-02; 5:00 pm]

BILLING CODE 3510-22-S